DEPARTMENT OF HEALTH AND HUMAN SERVICES

National Institutes of Health

National Cancer Institute; Amended Notice of Meeting

Notice is hereby given of a change in the meeting of the National Cancer Advisory Board and NCI Board of Scientific Advisors, December 2, 2019, 8:30 a.m. to December 3, 2019, 12:00 p.m., National Cancer Institute Shady Grove Campus, Rockville, MD, 20850 which was published in the Federal Register on February 11, 2019, 84 FR 3205.

This meeting notice is amended to add two subcommittee meetings. The National Cancer Advisory Board (NCAB) Ad Hoc Subcommittee on Population Science, Epidemiology and Disparities will meet on December 2, 2019 from 5:30 p.m. to 7:00 p.m. and the NCAB Subcommittee on Clinical Investigations will meet on December 2, 2019 from 7:30 p.m. to 9:00 p.m. Both meetings will be held at the Gaithersburg Marriott Washingtonian Center, 9751 Washingtonian Boulevard, Rooms—To Be Determined, Gaithersburg, MD 20878.

This meeting notice is also amended to change the meeting from a two-day to a one-day meeting and change the open and closed session meeting times. The joint meeting of the NCAB and NCI Board of Scientific Advisors will now be held on December 3, 2019 with the open session from 8:00 a.m. to 4:30 p.m. and the closed session from 4:45 p.m. to 5:45 p.m.

Dated: November 7, 2019.
Melanie J. Pantoja,
Program Analyst, Office of Federal Advisory Committee Policy.

[FR Doc. 2019-24676 Filed 11-13-19; 8:45 am]

BILLING CODE 4140-01-P